DEPARTMENT OF HEALTH AND HUMAN SERVICES

Centers for Medicare & Medicaid Services

[Document Identifier: CMS-10450, CMS-10383, and CMS-10466]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by December 18, 2023.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: ___, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10450 Consumer Assessment of Healthcare Providers and Systems (CAHPS) Survey for Merit-based Incentive Payment Systems (MIPS)

CMS-10383 Review and Approval Process for Waivers for State Innovation

CMS-10466 Patient Protection and Affordable Care Act; Exchange Functions: Eligibility for Exemptions

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension of a currently approved Information Collection; Title of Information Collection: Consumer Assessment of Healthcare Providers and Systems (CAHPS) Survey for Merit-based Incentive Payment Systems (MIPS); Use: The CAHPS for MIPS survey is used in the Quality Payment Program (QPP) to collect data on fee-for-service Medicare beneficiaries' experiences of care with eligible clinicians participating in MIPS and is designed to gather only the necessary data that CMS needs for assessing physician quality performance, and related public reporting on physician performance, and should complement other data collection efforts. The survey consists of the core Agency for Healthcare Research and Quality (AHRQ) CAHPS Clinician & Group Survey, version 3.0, plus additional survey questions to meet CMS's information and program needs. The survey information is used for quality reporting, the compare tool on the Medicare.gov website, and annual statistical experience reports describing MIPS data for all MIPS eligible clinicians.

This 2024 information collection request addresses the requirements related to the statutorily required quality measurement. The CAHPS for MIPS survey results in burden to three different types of entities: groups, virtual groups, and subgroups; vendors; and beneficiaries associated with administering the survey. Virtual groups are subject to the same requirements as groups and subgroups; therefore, we will refer only to “groups” as an inclusive term for all entities unless otherwise noted. Form Number: CMS-10450 (OMB control number: 0938-1222); Frequency: Yearly; Affected Public: Business or other for-profits and Not-for-profit institutions and Individuals and Households; Number of Respondents: 25,536; Total Annual Responses: 25,536; Total Annual Hours: 5,867 (For policy questions regarding this collection contact Renee Oneill at 410-786-8821.)

2. Type of Information Collection Request: Extension of a currently approved collection; Title of Information Collection: Review and Approval Process for Waivers for State Innovation; Use: The information required under this collection is necessary to ensure that states comply with statutory and regulatory requirements related to the development and implementation of section 1332 waivers. States seeking waiver authority under section 1332 of the ACA are required to meet certain requirements for applications, public notice, and reporting. The authority for these requirements is found in section 1332 of the ACA. This information collection reflects the requirements provided in the final rules published in February 2012 (77 FR 11700) and September 2021 (86 FR 3412).

On October 24, 2018, the Departments published guidance (86 FR 53575) that provided supplementary information about the requirements that must be met for the approval of a section 1332 waiver, the Secretaries' application review procedures, the calculation of pass-through funding, certain analytical requirements, and operational considerations. However, the September 2021 final rule superseded and rescinded policies and interpretations outlined in the 2018 guidance and repealed the previous codification of the interpretations of the statutory guardrails in part 1 of the 2022 Payment Notice final rule (86 FR 6138). The September 2021 final rule (86 FR 53412) finalized modifications to section 1332 waiver implementing regulations, including changes to many of the policies and interpretations of the statutory guardrails codified in regulation. In addition, the September 2021 final rule modified regulations to provide flexibilities in the public notice requirements and post-award public participation requirements for section 1332 waivers under certain future emergent situations. The final rule also provided new information regarding the processes and procedures for amendments and extensions for approved waiver plans. Form Number: CMS-10383 (OMB Control Number 0938-1389; Frequency: Occasionally; Affected Public: State Governments; Number of Respondents: 19; Total Annual Responses: 399; Total Annual Hours: 5,549. (For policy questions regarding this collection contact Lina Rashid at 301-492-4193.)

3. Type of Information Collection Request: Revision of a currently approved collection; Title of Information Collection: Patient Protection and Affordable Care Act; Exchange Functions: Eligibility for Exemptions; Use: The data collection and reporting requirements in “Patient Protection and Affordable Care Act; Exchange Functions: Eligibility for Exemptions; Miscellaneous Minimum Essential Coverage Provisions” (78 FR 39494 (July 1, 2013)), address federal requirements that states must meet with regard to the Exchange minimum function of performing eligibility determinations and issuing certificates of exemption from the shared responsibility payment. In the final regulation, CMS addresses standards related to eligibility, including the verification and eligibility determination process, eligibility redeterminations, options for states to rely on HHS to make eligibility determinations for certificates of exemption, and reporting. CMS developed four appendices of application materials to illustrate the process applicants use to apply for exemptions from the shared responsibility payment. This information collection requests seeks approval for the requirements associated with the collection of information associated with these four appendices. Form Number: CMS-10466 (OMB Control Number 0938-1190; Frequency: Annually; Affected Public: Individuals and Households—State, Local, or Tribal Governments; Number of Respondents: 849; Total Annual Responses: 849; Total Annual Hours: 1,962. (For policy questions regarding this collection contact John Kenna at 301-492-4452.)

Dated: October 12, 2023.
William N. Parham, III,
Director, Paperwork Reduction Staff, Office of Strategic Operations and Regulatory Affairs.

[FR Doc. 2023-22897 Filed 10-16-23; 8:45 am]

BILLING CODE 4120-01-P